Title 3—

The President

Proclamation 11001 of January 14, 2026

Adjusting Imports of Processed Critical Minerals and Their Derivative Products Into The United States

By the President of the United States of America

A Proclamation

1. On October 24, 2025, the Secretary of Commerce (Secretary) transmitted to me a report on his investigation into the effects of imports of processed critical minerals and their derivative products (PCMDPs) on the national security of the United States under section 232 of the Trade Expansion Act of 1962, as amended, 19 U.S.C. 1862 (section 232). Based on the facts considered in that investigation, which took into account the close relation of the economic welfare of the Nation to our national security and other relevant factors, see 19 U.S.C. 1862(d), the Secretary found and advised me of his opinion that PCMDPs are being imported into the United States in such quantities and under such circumstances as to threaten to impair the national security of the United States.

2. The Secretary found that PCMDPs are essential to the national security of the United States. PCMDPs are indispensable to almost every industry, including national defense programs and critical infrastructure. PCMDPs are embedded across defense and commercial supply chains and play an essential role in the production of advanced weapons systems, energy infrastructure, and everyday consumer goods. For example, rare earth permanent magnets—a derivative product of processed critical minerals—are used in and vital to nearly all electronics and vehicles.

3. The Secretary found that PCMDPs are essential to the United States' defense industrial base and the technological superiority and operational readiness of the military. PCMDPs are key components found throughout the defense industrial base, contributing to virtually all defense capabilities and activities. They are essential for the development and sustainment of high-performance military equipment, including fighter aircraft, munitions, armor plating, naval ships, communication networks, navigation systems, and surveillance systems.

4. The Secretary also found that processed critical minerals are essential to each of the 16 critical infrastructure sectors identified by National Security Memorandum 22 of April 30, 2024 (Critical Infrastructure Security and Resilience). For example, the chemical sector uses critical minerals, such as lithium, fluorite, and bromine, for chemical synthesis and industrial mechanisms. The communications sector uses critical minerals, such as gallium, germanium, indium, and yttrium, in fiber optic networks and satellite systems. And the energy sector relies on critical minerals, such as cobalt, nickel, uranium, praseodymium, and terbium, for battery storage, nuclear fuel, generators, and electric vehicle motors. The Secretary determined that processed critical minerals underpin critical military and economic applications.

5. The Secretary found that the United States is too reliant on foreign sources of PCMDPs, lacks access to a sufficiently secure and reliable supply chain to PCMDPs, is experiencing unsustainable price volatility with respect to critical mineral markets, and is suffering from weakened domestic manufacturing and production capacity of PCMDPs. The Secretary found that these circumstances are a significant national security vulnerability that could be exploited by foreign actors; weaken the industrial resilience of the United States; expose the American people to supply chain disruptions, economic instability, and strategic vulnerabilities; and jeopardize the United States' ability to meet demands for PCMDPs that are essential to its national defense and critical infrastructure.

6. As of 2024, the United States was 100 percent net-import reliant for 12 critical minerals, and 50 percent or greater net-import reliant for a further 29 critical minerals. Even where the United States has domestic mining capacity, such as for cobalt, nickel, and rare earth elements, the United States lacks the domestic processing capacity to avoid downstream net-import reliance. In fact, although the United States is the second largest producer of mined, unprocessed rare earth oxides in the world, the United States' limited processing capacity still requires rare earth oxides to be exported for further refining and processing before being reimported for domestic use. As a result, the United States is too entirely reliant on imports of rare earth permanent magnets to meet commercial demand, and United States production currently meets only a fraction of defense needs. Mining a mineral domestically does not safeguard the national security of the United States if the United States remains dependent on a foreign country for the processing of that mineral.

7. In addition, the Secretary found that the United States lacks access to a sufficiently secure and reliable supply chain for PCMDPs. Even with respect to the minerals for which the United States has only partial import reliance, supply disruptions can still expose important sectors—such as defense, aerospace, telecommunications, and transportation—to serious risk. For example, the limited capacity of the domestic critical minerals industry, combined with foreign dominance, has exposed the Department of War (DoW) to significant supply chain risks. For several key minerals, the vast majority of DoW supply chains rely on at least one supplier from a single country, underscoring the urgent need to diversify sources and build resilient domestic capabilities.

8. The Secretary further found that critical mineral markets are prone to price volatility. Price volatility hinders private sector investment; limits market-based economies' willingness to maintain capacity; leads to facility closures; and threatens the long-term viability of domestic mining, processing, and downstream manufacturing capacity.

9. The Secretary also found that critical mineral production in the United States has been declining. The United States has experienced the closure or reduction in size of facilities related to critical mineral production, and some United States producers of critical minerals have offshored their activities to foreign countries.

10. The Secretary found that despite the decline in refining, manufacturing, and production of critical minerals in the United States, United States demand for critical minerals is rapidly increasing and will continue to increase. Contributing to the increased United States demand are vital national security and economic activities, including rising military threats and growing high-tech industries, such as artificial intelligence, data centers, nuclear energy, and new energy technologies.

11. In the Secretary's opinion, it is imperative to the national security to address these vulnerabilities. In the Secretary's view, the United States must, among other things, ensure that it has a secure supply chain to obtain PCMDPs and that it has sufficient domestic mining and processing of critical minerals to reduce import reliance on foreign countries.

12. In light of these findings, the Secretary recommended a range of actions, including actions to adjust the imports of PCMDPs so that such imports will not threaten to impair the national security. For example, the Secretary recommended that I negotiate agreements with foreign nations to ensure the United States has adequate critical mineral supplies and to mitigate the supply chain vulnerabilities as quickly as possible. The Secretary also suggested that it may be appropriate to impose import restrictions, such as tariffs, if satisfactory agreements are not reached in a timely manner.

13. After considering the Secretary's report, the factors in section 232(d) (19 U.S.C. 1862(d)), and other relevant factors and information, I concur with the Secretary's finding that PCMDPs are being imported into the United States in such quantities and under such circumstances as to threaten to impair the national security of the United States. In my judgment, and in light of the Secretary's report, the factors in section 232(d) (19 U.S.C. 1862(d)), and other relevant factors and information, I determine that it is necessary and appropriate to enter into negotiations with trading partners to adjust the imports of PCMDPs so that such imports will not threaten to impair the national security of the United States. Depending on the outcome of such negotiations, I may consider alternative remedies in the future, including minimum import prices for specific types of critical minerals. I therefore direct the Secretary and the United States Trade Representative (Trade Representative) to jointly pursue negotiation of agreements or continue any current negotiations of agreements, such as agreements contemplated in section 232(c)(3)(A)(i) (19 U.S.C. 1862(c)(3)(A)(i)), to address the threatened impairment of the national security with respect to PCMDPs. Depending on the status or outcome of those negotiations, I may take other measures to adjust the imports of PCMDPs to address the threat to the national security found in this proclamation.

14. Section 232 authorizes the President to adjust the imports of an article and its derivatives that are being imported into the United States in such quantities or under such circumstances as to threaten to impair the national security so that such imports will not threaten to impair the national security. Section 232 includes the authority to adopt and carry out a plan of action, with adjustments over time, to address the national security threat. That initial plan of action may include negotiations of agreements with foreign trading partners along with other measures to adjust imports to address the national security threat. If action under section 232 includes the negotiation of an agreement, such as one contemplated in section 232(c)(3)(A)(i) (19 U.S.C. 1862(c)(3)(A)(i)), the President may also take other actions he deems necessary to adjust imports and eliminate the threat to the national security, including if such an agreement is not entered into within 180 days of the date of this proclamation or is not being carried out or is ineffective. See 19 U.S.C. 1862(c)(3)(A).

NOW, THEREFORE, I, DONALD J. TRUMP, President of the United States of America, by the authority vested in me by the Constitution and the laws of the United States, including section 232, 19 U.S.C. 1862; and section 301 of title 3, United States Code, do hereby proclaim as follows:

(1) The Secretary and the Trade Representative, and any other senior executive branch officials they deem appropriate, shall jointly pursue negotiation of agreements, including those contemplated in section 232(c)(3)(A)(i) (19 U.S.C. 1862(c)(3)(A)(i)), to address the threatened impairment of the national security with respect to imports of PCMDPs from any country. In negotiating, the Secretary and the Trade Representative should consider price floors for trade in critical minerals and other trade-restricting measures. The Secretary and the Trade Representative, in consultation with any other senior executive branch officials they deem appropriate, shall, from time to time, update me on the status or outcome of the negotiations described in this proclamation. The Secretary and the Trade Representative shall provide one of these updates within 180 days of the date of this proclamation.

(2) To the extent consistent with applicable law and the purpose of this proclamation, the Secretary, the Trade Representative, and the Secretary of Homeland Security are directed and authorized to take all actions that are appropriate to implement and effectuate this proclamation and any actions contemplated by this proclamation, including, consistent with applicable law, the issuance of regulations, rules, guidance, and procedures and the temporary suspension or amendment of regulations, within their respective jurisdictions, and to employ all powers granted to the President under section 232, as may be appropriate to implement and effectuate this proclamation. The Secretary, the Trade Representative, and the Secretary of Homeland Security may, consistent with applicable law, including section 301 of title 3, United States Code, redelegate any of these functions within their respective executive departments or agencies. All executive departments and agencies shall take all appropriate measures to implement and effectuate this proclamation.

(3) The Secretary shall continue to monitor imports of PCMDPs. The Secretary also shall, from time to time, in consultation with any senior executive branch officials the Secretary deems appropriate, review the status of such imports with respect to the national security. The Secretary shall inform me of any circumstances that, in the Secretary's opinion, might indicate the need for further action by the President under section 232.

(4) Any provision of previous proclamations and Executive Orders that is inconsistent with the actions taken in this proclamation is superseded to the extent of such inconsistency. If any provision of this proclamation or the application of any provision to any individual or circumstance is held to be invalid, the remainder of this proclamation and the application of its provisions to any other individuals or circumstances shall not be affected.

IN WITNESS WHEREOF, I have hereunto set my hand this fourteenth day of January, in the year of our Lord two thousand twenty-six, and of the Independence of the United States of America the two hundred and fiftieth.

[FR Doc. 2026-01045

Filed 1-16-26; 11:15 am]

Billing code 3395-F4-P